Title 3—

The President

Executive Order 13151 of April 27, 2000

Global Disaster Information Network

By the authority vested in me as President by the Constitution and the laws of the United States of America, and in order to establish a Global Disaster Information Network to use information technology more effectively to reduce loss of life and property from natural and man-made disasters, it is hereby ordered as follows:

Section 1. Policy. (a) It is the policy of this Administration to use information technology more effectively to coordinate the Federal Government's collection and dissemination of information to appropriate response agencies and State governments to prepare for and respond to natural and man-made disasters (disasters). As a result of changing population demographics in our coastal, rural, and urban areas over the past decades, the loss of life and property (losses) from disasters has nearly doubled. One of the ways the Federal Government can reduce these losses is to use technology more effectively to coordinate its collection and dissemination (hereafter referred to collectively as “provision”) of information which can be used in both planning for and recovering from disasters. While many agencies provide disaster-related information, they may not always provide it in a coordinated manner. To improve the provision of disaster-related information, the agencies shall, as set out in this order, use information technology to coordinate the Federal Government's provision of information to prepare for, respond to, and recover from domestic disasters.

(b) It is also the policy of this Administration to use information technology and existing channels of disaster assistance to improve the Federal Government's provision of information that could be helpful to foreign governments preparing for or responding to foreign disasters. Currently, the United States Government provides disaster-related information to foreign governments and relief organizations on humanitarian grounds at the request of foreign governments and where appropriate. This information is supplied by Federal agencies on an ad hoc basis. To increase the effectiveness of our response to foreign disasters, agencies shall, where appropriate, use information technology to coordinate the Federal Government's provision of disaster-related information to foreign governments.

(c) To carry out the policies in this order, there is established the Global Disaster Information Network (Network). The Network is defined as the coordinated effort by Federal agencies to develop a strategy and to use existing technical infrastructure, to the extent permitted by law and subject to the availability of appropriations and under the guidance of the Interagency Coordinating Committee and the Committee Support Office, to make more effective use of information technology to assist our Government, and foreign governments where appropriate, by providing disaster-related information to prepare for and respond to disasters.

Sec. 2. Establishment. (a) There is established an Interagency Coordinating Committee (Committee) to provide leadership and oversight for the development of the Network. The Office of the Vice President, the Department of Commerce through the National Oceanic and Atmospheric Administration, and the Department of State, respectively, shall designate a representative to serve as Co-chairpersons of the Committee. The Committee membership shall comprise representatives from the following departments and agencies:

(1) Department of State;

(2) Department of Defense;

(3) Department of the Interior;

(4) Department of Agriculture;

(5) Department of Commerce;

(6) Department of Transportation;

(7) Department of Energy;

(8) Office of Management and Budget;

(9) Environmental Protection Agency;

(10) National Aeronautics and Space Administration;

(11) United States Agency for International Development;

(12) Federal Emergency Management Agency; and

(13) Central Intelligence Agency.

At the discretion of the Co-chairpersons of the Committee, other agencies may be added to the Committee membership. The Committee shall include an Executive Secretary to effect coordination between the Co-chairpersons of the Committee and the Committee Support Office.

(b) There is established a Committee Support Office (Support Office) to assist the Committee by developing plans and projects that would further the creation of the Network. The Support Office shall, at the request of the Co-chairpersons of the Committee, carry out tasks taken on by the Committee.

(c) The National Oceanic and Atmospheric Administration shall provide funding and administrative support for the Committee and the Support Office. To the extent permitted by law, agencies may provide support to the Committee and the Support Office to assist them in their work.

Sec. 3. Responsibilities. (a) The Committee shall:

(1)

serve as the United States Government's single entity for all matters, both national and international, pertaining to the development and establishment of the Network;

(2)

provide leadership and high-level coordination of Network activities;

(3)

provide guidance for the development of Network strategies, goals, objectives, policies, and legislation;

(4)

represent and advocate Network goals, objectives, and processes to their respective agencies and departments;

(5)

provide manpower and material support for Network development activities;

(6)

develop, delegate, and monitor interagency opportunities and ideas supporting the development of the Network; and

(7)

provide reports, through the Co-chairpersons of the Committee, to the President as requested or at least annually.

(b) The Support Office shall:

(1)

provide management and administrative support for the Committee;

(2)

develop Network strategies, goals, objectives, policies, plans, and legislation in accordance with guidance provided by the Committee;

(3)

consult with agencies, States, nongovernment organizations, and international counterparts in developing Network development tasks;

(4)

develop and make recommendations concerning Network activities to the agencies as approved by the Committee; and

(5)

participate in projects that promote the goals and objectives of the Network.

Sec. 4. Implementation. (a) The Committee, with the assistance of the Support Office, shall address national and international issues associated with the development of the Network within the context of:

(1) promoting the United States as an example and leader in the development and dissemination of disaster information, both domestically and abroad, and, to this end, seeking cooperation with foreign governments and international organizations;

(2) striving to include all appropriate stakeholders in the development of the Network; and

(3) facilitating the creation of a framework that involves public and private stakeholders in a partnership for sustained operations of the Network.

(b) Intelligence activities, as determined by the Director of the Central Intelligence Agency, as well as national security-related activities of the Department of Defense and of the Department of Energy, are exempt from compliance with this order.

Sec. 5. Tribal Governments. This order does not impose any requirements on tribal governments.

Sec. 6. Judicial Review. This order does not create any right or benefit, substantive or procedural, enforceable by law, by a party against the United States, its officers, its employees, or any other person.

wj

THE WHITE HOUSE,

April 27, 2000.

[FR Doc. 00-11070

Filed 5-1-00; 8:45 am]

Billing code 3195-01-P